DEPARTMENT OF COMMERCE

National Oceanic and Atmospheric Administration

[I.D. 092606G]

Pacific Fishery Management Council; Public Meeting

AGENCY: National Marine Fisheries Service (NMFS), National Oceanic and Atmospheric Administration (NOAA), Commerce.

ACTION: Notice of a public meeting.

SUMMARY: The Pacific Fishery Management Council's (Council) Groundfish Management Team (GMT) will hold a working meeting, which is open to the public.

DATES: The GMT meeting will be held Tuesday, October 17, 2006, from 8:30 a.m. until business is completed.

ADDRESSES: The GMT meeting will be held at the Red Lion Hotel on the River-Jantzen Beach, Glisan Room, 909 N. Hayden Island Drive, Portland, OR 97217; telephone: (503) 283-4466.

Council address: Pacific Fishery Management Council, 7700 NE Ambassador Place, Suite 101, Portland, OR 97220-1384.

FOR FURTHER INFORMATION CONTACT: Ms. Laura Bozzi; telephone: (503) 820-2280.

SUPPLEMENTARY INFORMATION: The purpose of the GMT meeting is to discuss the Trawl Individual Quota alternatives under development by the Council. Specifically, the GMT will discuss development of statements that address the management feasibility of particular aspects of the proposed alternatives. No management actions will be decided by the GMT on these issues. The GMT's statements will be provided to the Council and its advisory bodies at a later point to facilitate decision-making.

Although non-emergency issues not contained in the meeting agenda may come before the GMT for discussion, those issues may not be the subject of formal GMT action during this meeting. GMT action will be restricted to those issues specifically listed in this notice and any issues arising after publication of this notice that require emergency action under Section 305(c) of the Magnuson-Stevens Fishery Conservation and Management Act, provided the public has been notified of the GMT's intent to take final action to address the emergency.

Special Accommodations

This meeting is physically accessible to people with disabilities. Requests for sign language interpretation or other auxiliary aids should be directed to Ms. Carolyn Porter at (503) 820-2280 at least 5 days prior to the meeting date.

Dated: September 26, 2006.
Tracey L. Thompson,
Acting Director, Office of Sustainable Fisheries, National Marine Fisheries Service.

[FR Doc. E6-16143 Filed 9-29-06; 8:45 am]

BILLING CODE 3510-22-S